DEPARTMENT OF THE INTERIOR

Bureau of Land Management

[WO-310-1310-PB-24 1A; OMB Control Number 1004-0162]

Information Collection Submitted to the Office of Management and Budget Under the Paperwork Reduction Act

The Bureau of Land Management (BLM) has submitted the proposed collection of information listed below to the Office of Management and Budget (OMB) for approval under the provisions of the Paperwork Reduction Act (44 U.S.C. 3501 et seq.). On July 6, 2004, the BLM published a notice in the Federal Register (69 FR 40646) requesting comments on this proposed collection. The comment period ended on September 7, 2004. The BLM received no comments. You may obtain copies of the proposed collection of information by contacting the BLM Information Collection Clearance Officer at the telephone number listed below.

The OMB is required to respond to this request within 60 days but may respond after 30 days. For maximum consideration your comments and suggestions on the requirement should be made within 30 days directly to the Office of Management and Budget, Interior Department Desk Officer (1004-0162), at OMB-OIRA via facsimile to (202) 395-6566 or e-mail to OIRA_DOCKET@omb.eop,gov. Please provide a copy of your comments to the Bureau Information Collection Clearance Officer (WO-630), Bureau of Land Management, Eastern States Office, 7450 Boston Blvd., Springfield, Virginia 22153.

Nature of Comments: We specifically request your comments on the following:

1. Whether the collection of information is necessary for the proper functioning of the BLM, including whether the information will have practical utility;

2. The accuracy of the BLM's estimate of the burden of collecting the information, including the validity of the methodology and assumptions uses;

3. The quality, utility and clarity of the information to be collected; and

4. How to minimize the burden of collecting the information on those who are to respond, including the use of appropriate automated, electronic, mechanical, or other forms of information technology.

Title: Oil and Gas Geophysical Exploration Operations (43 CFR 3150).

OMB Control Number: 1004-0162.

Bureau Form Number: BLM 3150-4/FS 2800-16; BLM 3150-5/FS 2800-16a; certain nonform information (Alaska only).

Abstract: The Bureau of Land Management and the FS use the information to determine that geophysical exploration operation activities are conducted in a manner consistent with the regulations, land use plans, and environmental assessments in compliance with the provisions of the National Environmental Policy Act of 1969 as amended.

Frequency: On occasion.

Description of Respondents: Oil and gas exploration and drilling companies.

Estimated Completion Time: BLM 3150-4/FS 2800-16, 1 hour; BLM Form 3150-5/FS 2800-16a, 20 minutes; and certain nonform information (Alaska only) 1 hour.

Annual Responses: 1,253.

Application Fee per Response: $25 filing/renewal fee (only if off-lease in Alaska).

Annual Burden Hours: 836.

Bureau Clearance Officer: Ian Senio, (202) 452-5033.

Dated: July 21, 2005.
Ian Senio,
Bureau of Land Management, Information Collection Clearance Officer.
Editorial Note: This document was received in the Office of the Federal Register on November 29, 2005.

[FR Doc. 05-23581 Filed 12-2-05; 8:45 am]

BILLING CODE 4310-84-M